DEPARTMENT OF COMMERCE

National Oceanic and Atmospheric Administration

[I.D. 091802A]

Marine Mammals; File No. 1033-1683-00

AGENCY: National Marine Fisheries Service (NMFS), National Oceanic and Atmospheric Administration (NOAA), Commerce.

ACTION: Issuance of permit.

SUMMARY: Notice is hereby given that Michael A. Castellini, Ph.D., Institute of Marine Science, School of Fisheries and Ocean Sciences, University of Alaska, Fairbanks, AK 99775, has been issued a permit to take Weddell seals (Leptonychotes weddellii) and other Antarctic pinnipeds for purposes of scientific research.

ADDRESSES: The permit and related documents are available for review upon written request or by appointment in the following office:

Permits, Conservation and Education Division, Office of Protected Resources, NMFS, 1315 East-West Highway, Room 13705, Silver Spring, MD 20910; phone (301)713-2289; fax (301)713-0376;

FOR FURTHER INFORMATION CONTACT: Ruth Johnson or Carrie Hubard, (301)713-2289.

SUPPLEMENTARY INFORMATION: On August 5, 2002, notice was published in the Federal Register (67 FR 50632) that a request for a scientific research permit to take Weddell seals had been submitted by the above-named individual. The requested permit has been issued under the authority of the Marine Mammal Protection Act of 1972, as amended (16 U.S.C. 1361 et seq.) and the Regulations Governing the Taking and Importing of Marine Mammals (50 CFR part 216).

Permit No. 1033-1683 authorizes the Holder to capture, sample, instrument and release Weddell seals, incidentally harass crabeater seal (Lobodon carcinophagus), leopard seal (Hydrurga leptonyx), Ross seal (Ommatophoca rossii), southern elephant seal (Mirounga leonina), and Antarctic fur seal (Archtocephalus gazella), and import blood, feces and milk collected during research.

Dated: September 25, 2002.
Eugene T. Nitta,
Acting Chief, Permits, Conservation and Education Division, Office of Protected Resources, National Marine Fisheries Service.

[FR Doc. 02-25624 Filed 10-7-02; 8:45 am]

BILLING CODE 3510-22-S